DEPARTMENT OF DEFENSE

Department of the Air Force

[Docket ID: USAF-2009-0040]

Privacy Act of 1974; System of Records

AGENCY: Department of the Air Force, DoD.

ACTION: Notice to delete a system of records.

SUMMARY: The Department of Air Force proposes to delete a system of records to its inventory of record systems subject to the Privacy Act of 1974 (5 U.S.C. 552a), as amended.

DATES: The proposed action will be effective without further notice on August 3, 2009 unless comments are received that would result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Mr. Ben Swilley, at (703) 696-6172.

SUPPLEMENTARY INFORMATION: The Department of the Air Force system of records notices subject to the Privacy Act of 1974, (5 U.S.C. 552a), as amended, have been published in the Federal Register and are available from the address above.

The Department of the Air Force proposes to delete one system of records notice from its inventory of recored systems subject to the Privacy Act of 1974 (5 U.S.C. 552a), as amended. The proposed deletion is not within the purview of subsection (r) of the Privacy Act of 1974, U.S.C. 552a), as amended, which requires the submission of a new or altered system report.

Dated: June 29, 2009.
Morgan E. Frazier,
Alternate OSD Federal Register Liaison Officer, Department of Defense.

Deletion:

F036 AETC J

System Name:

Four-Year Reserve Officer Training Corps (AFROTC) Scholarship Program Files (June 11, 1997, 62 FR 31793).

Reason:

The records contained in this system of records are now maintained under F036 AETC X, College Scholarship Program (CSP) (August 22, 2008, 73 FR 49659. Accordingly, this Privacy Act System of Records Notice will be deleted from the Air Force's inventory.

[FR Doc. E9-15628 Filed 7-1-09; 8:45 am]

BILLING CODE 5001-06-P